DEPARTMENT OF ENERGY

Federal Energy Regulatory Commission

[Docket No. CP11-491-000]

Transcontinental Gas Pipe Line Company, LLC; Notice of Request Under Blanket Authorization

Take notice that on May 23, 2011 Transcontinental Gas Pipe Line Company, LLC (Transco), Post Office Box 1396, Houston, TX 77251, filed in the above Docket, a prior notice request pursuant to sections 157.205 and 157.216 of the Commission's regulations under the Natural Gas Act (NGA) and Transco's authorization in Docket No. CP82-426-000, for authorization to abandon in place: (i) Approximately 8.45 mile, 12-inch pipeline extending from South Marsh Island Block 38 to South Marsh Island Block 23, (ii) approximately 0.455 mile, 12-inch pipeline extending from production platform B in South Marsh Island Block 33 to South Marsh Island Block 38, (iii) and related metering facilities at South Marsh Island Block 33 and appurtenant facilities, collectively referred as the SMI Facilities, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Nan Miksovsky, Transcontinental Gas Pipe Line Company, LLC, P.O. Box 1396, Houston, Texas, 77251 at (713) 215-3422.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Dated: June 6, 2011.
Nathaniel J. Davis, Sr.,
Deputy Secretary.

[FR Doc. 2011-15547 Filed 6-21-11; 8:45 am]

BILLING CODE 6717-01-P